DEPARTMENT OF HEALTH AND HUMAN SERVICES

Office of the Secretary

Findings of Scientific Misconduct

AGENCY: Office of the Secretary, HHS.

ACTION: Notice.

SUMMARY: Notice is hereby given that the Office of Research Integrity (ORI) and the Acting Assistant Secretary for Health have taken final action in the following case:

Xiaowu Li, MD, PhD, The University of California at San Francisco: On September 16, 2005, the U.S. Public Health Service (PHS) entered into a Voluntary Exclusion Agreement with the University of California at San Francisco (UCSF) and Xiaowu Li, MD, PhD, former postdoctoral fellow at UCSF. Based on the UCSF report and additional analysis conducted by ORI in its oversight review, PHS found that Dr. Li engaged in scientific misconduct in reporting research supported by grants P01 DE13904, “Adhesion and proliferation in oral cancer progression,” R01 DE12856, “Oral melanoma alpha v beta 3 expression and metastasis,” and R01 DE011930, “Regulatory function of fyn in oral SCC invasion,” all funded by the National Institute of Dental and Craniofacial Research (NIDCR), National Institutes of Health (NIH).

Specifically, PHS found that Dr. Li falsified three images in Figure 5B of a paper, “Laminin-5 promotes cell motility by regulating the function of the integrin α6β1 in pancreatic cancer,'' published online in Carcinogenesis Advance Access, reporting studies on the role of integrin α6β1 and laminin on the invasiveness of pancreatic cancer cells and their ability to metastasize.

In all three images, mouse melanoma cells were falsely represented as being human pancreatic carcinoma cells; the cancer cells were falsely represented as having been plated on medium with laminin-1, whereas they were in fact plated on medium with vitronectin; and for two of the three images, the cancer cells were falsely represented as having been stained with anti-integrin β1, whereas they were actually stained with anti-integrin β3.

The misconduct was significant because pancreatic cancer has a poor prognosis for patients, since it tends to invade other tissues and to metastasize early in its course. Knowledge of the factors that facilitate cancer cell invasion and metastasis, which was the focus of the questioned figure and paper, is crucial to attempts to develop better treatments for pancreatic and other cancers. Thus, the falsified figure could have misled other investigators in this important area of medical research.

Dr. Li has entered into a Voluntary Exclusion Agreement (Agreement) in which he has voluntarily agreed, for a period of three (3) years, beginning on September 16, 2005:

(1) To exclude himself from any contracting or subcontracting with any agency of the United States Government and from eligibility or involvement in nonprocurement programs of the United States Government referred to as “covered transactions” as defined in the debarment regulations at 45 CFR Part 76; and

(2) To exclude himself from serving in any advisory capacity to PHS including but not limited to service on any PHS advisory committee, board, and/or peer review committee, or as consultant.

For Further Information Contact: Director, Division of Investigative Oversight, Office of Research Integrity, 1101 Wootton Parkway, Suite 750, Rockville, MD 20852, (301) 443-5330.

Chris B. Pascal,
Director, Office of Research Integrity.

[FR Doc. 05-21150 Filed 10-21-05; 8:45 am]

BILLING CODE 4150-31-P